DEPARTMENT OF THE INTERIOR

Fish and Wildlife Service

Notice of Availability of Draft Environmental Assessment and Land Protection Plan for the Proposed Establishment of Cat Island National Wildlife Refuge, West Feliciana Parish, LA

AGENCY: Fish and Wildlife Service, Department of the Interior.

ACTION: Notice of availability of a draft environmental assessment and land protection plan for the proposed establishment of Cat Island National Wildlife Refuge in West Feliciana Parish, Louisiana.

SUMMARY: This notice advises the public that the U.S. Fish and Wildlife Service, Southeast Region, proposes to establish a new national wildlife refuge in West Feliciana Parish, Louisiana. The purpose of the proposed refuge is to protect, enhance, and manage a valuable wetland area known as Cat Island for the benefit of resident and migratory waterfowl, neotropical migratory birds, and other native game and nongame wildlife. A Draft Environmental Assessment and Land Protection Plan for the establishment of the proposed refuge has been prepared by Service biologists in coordination with the Louisiana Department of Wildlife and Fisheries, The Nature Conservancy, the West Feliciana Parish Police Jury, and the City of St. Francisville. The assessment considers the biological, environmental, and socioeconomic effects of establishing the refuge and evaluates four alternative actions and their potential impacts on the environment. Written comments or recommendations concerning the proposal are welcomed and should be sent to the address given below.

DATES: Land acquisition planning for the project is currently underway. The draft environmental assessment and land protection plan will be available to the public for review and comment on January 28, 2000. Written comments must be received no later than February 28, 2000, in order to be considered for the preparation of the final environmental assessment.

ADDRESSES: If you wish to comment, you may submit your comments by any one of several methods. You may mail your comments to Mr. Charles R. Danner, Team Leader, Planning and Support Team, U.S. Fish and Wildlife Service, 1875 Century Boulevard, Atlanta, Georgia 30345. You may hand-deliver your comments to Mr. Danner at the same address. Or you may submit your comments by telephone at 1-800-419-9582. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: The proposal would establish a national wildlife refuge on up to 36,500 acres of wetlands and bottomlands hardwoods on Cat Island in West Feliciana Parish, Louisiana. Cat Island, also known as the Tunica Swamp, is not a true island but a peninsula of land located between the Mississippi River and the Tunica Hills, about 30 miles north of Baton Rouge. It is unique because it is one of the few natural areas along the Mississippi River that has never been leveed. It is subject to seasonal overflows from the river and its fish and wildlife values are tremendous.

The Service is proposing to establish the refuge through a combination of fee title purchases from willing sellers and cooperative agreements or conservation easements from willing landowners.

The goals of the proposed refuge are to provide (1) Quality hunting and sportfishing opportunities, (2) habitat for wintering waterfowl and woodcock, (3) habitat for the threatened Louisiana black bear, (4) nesting habitat for wood ducks, (5) habitat for a natural diversity of wildlife, (6) habitat for nongame neotropical migratory birds, and (7) opportunities for compatible environmental education, interpretation, and wildlife-oriented recreation.

Dated: January 21, 2000.
Sam D. Hamilton,
Regional Director.

[FR Doc. 00-2072 Filed 1-31-00; 8:45 am]

BILLING CODE 4310-55-M